FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Amber Freight Shipping Lines, 2805 E. Ana Street, Rancho Dominguez, CA 90221, Moon J. Han, Sole Proprietor.

Centroamericano Cargo Express & Multiservices, Inc., 515 SW 12th Ave., Suite 503, Miami, FL 33130, Officer: Juana L. Orozco, President (Qualifying Individual).

Hawaii Intermodal Tank Transport, 18101 Von Karman Ave., Suite 330, Irvine, CA 92612, Officer: Bahman Sadeghi, Managing Member, (Qualifying Individual).

Corbco Transportation Services Corp., One Cross Island Plaza, Suite 203F, Rosedale, NY 11422, Officers: Michael Baratta, President, (Qualifying Individual), Joseph Baratta, Vice President.

RMS Logistics Inc., 45 Hausel Road, Port of Wilmington, Wilmington, DE 19801, Officers: James F. Storm, President, (Qualifying Individual), Dale E. Ervin, Vice President.

Non-Vessel Operating Common Carrier and Ocean Freight Forwarder Transportation Intermediary Applicants

Space Cargo USA, LLC, 230 SW, 192 Terrace, Pembroke Pines, FL 33029, Officer: Jose A. Romero, Director, (Qualifying Individual).

Inma Export Corp., 1208 SW 2nd Street, Miami, FL 33135, Officers: Indiana Roa, President, (Qualifying Individual), Ismael Roa, Secretary.

Ocean Star International Inc., 8358 West Oakland Park Blvd., Suite 203G, Sunrise, FL 33351, Officer: Joshua S. Morales, President, (Qualifying Individual).

Asbun International Inc., 10134 NW 27th Ave., Miami, FL 33147, Officers: Rosalba Ramos, Vice President, (Qualifying Individual), Jorge A. Asbun, President.

Ronmur, Inc., 3018 NW 79 Ave., Miami, FL 33122, Officers: Thomas Ventura, Secretary, (Qualifying Individual), Roland Mumann, President.

7 Cargo Corp., 5600 J.F. Kennedy Blvd., Suite #202, West New York, NJ 07093, Officer: Ana Maria Jurado, President, (Qualifying Individual).

Trade Logistics Corp., 12999 SW 135th Street, Miami, FL 33186, Officers: Gustavo Cascavita, Director/Secretary, (Qualifying Individual), Gabriela V. Ospina, Director/President.

ES Logistics Incorporated, 30 Vesey Street, 10th Floor, New York, NY 10007, Officer: Edward S. Simioni, President, (Qualifying Individual).

Data Freight LLC dba Bright Express International, 332 Hindry Ave., Inglewood, CA 90301, Officers: John MA, Manager, (Qualifying Individvual).

All Over Export, Inc. dba Caraval, 1120 SW 86 Ct., Miami, FL 33144, Officer: Leslie Diaz, President, (Qualifying Individual).

UKO Logis Inc., 19440 Dominguez Hills Drive, Rancho Dominguez, CA 90220, Officer: Joon Park, CFO, (Qualifying Individual).

Ocean Freight Forwarder—Ocean Transportation Intermediary Applicant

International Trade Compliance Group, LLC, 109 Prairie View Lane, Red Oak, TX 75154, Officers: Michael R. Carr, Vice President, (Qualifying Individual), Michael A. Capuzzi, Managing Member.

Dated: August 17, 2007.
Karen V. Gregory,
Assistant Secretary.

[FR Doc. E7-16599 Filed 8-21-07; 8:45 am]

BILLING CODE 6730-01-P